DEPARTMENT OF COMMERCE

National Oceanic and Atmospheric Administration

[RTID 0648-XC348]

Management Track Assessment for Groundfish and Monkfish Stocks

AGENCY: National Marine Fisheries Service (NMFS), National Oceanic and Atmospheric Administration (NOAA), Commerce.

ACTION: Notice of public meeting.

SUMMARY: NMFS and the Assessment Oversight Panel (AOP) will convene the Management Track Assessment Peer Review Meeting for the purpose of reviewing Gulf of Maine and Georges Bank winter flounder, Atlantic halibut, white hake, Gulf of Maine and Georges Bank haddock, northern and southern monkfish, southern New England/mid-Atlantic yellowtail flounder, pollock, and American plaice stocks. The Management Track Assessment Peer Review is a formal scientific peer-review process for evaluating and presenting stock assessment results to managers for fish stocks in the offshore U.S. waters of the northwest Atlantic. Assessments are prepared by the lead stock assessment analyst and reviewed by an independent panel of stock assessment experts called the AOP. The public is invited to attend the presentations and discussions between the review panel and the scientists who have participated in the stock assessment process.

DATES: The public portion of the Management Track Assessment Peer Review Meeting will be held from September 19, 2022-September 22, 2022. The meeting will conclude on September 22, 2022 at 5 p.m. eastern standard time. Please see SUPPLEMENTARY INFORMATION for the daily meeting agenda.

ADDRESSES: The meeting will be held via Google Meet (https://meet.google.com/hhv-ubdx-pef).

FOR FURTHER INFORMATION CONTACT: Michele Traver, phone: 508-257-1642; email: michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about the AOP meeting and the stock assessment peer review, please visit the NMFS/NEFSC web page at https://www.fisheries.noaa.gov/new-england-mid-atlantic/population-assessments/management-track-stock-assessments.

Daily Meeting Agenda—Management Track Peer Review Meeting

The agenda is subject to change; all times are approximate and may be changed at the discretion of the Peer Review Chair.

Monday, September 19, 2022

Time | Activity | Lead
9 a.m.-9:15 a.m | Welcome/Logistics, Introductions/Process | Michele Traver, Russ Brown, and Richard Merrick (Chair).
9:15 a.m.-10 a.m | Input Data Changes, Discussion/Questions | Russ Brown, Review Panel.
10 a.m.-11 a.m | Gulf of Maine winter flounder, Discussion/Questions | Paul Nitschke, Review Panel.
11 a.m.-11:15 a.m | Break
11:15 a.m.-12:15 p.m | Georges Bank winter flounder, Discussion/Questions | Tony Wood, Review Panel.
12:15 p.m.-12:30 p.m | Discussion/Summary | Review Panel.
12:30 p.m.-12:45 p.m | Public Comment | Public.
12:45 p.m.-1:45 p.m | Lunch
1:45 p.m.-2:45 p.m | Atlantic halibut, Discussion/Questions | Dan Hennen, Review Panel.
2:45 p.m.-3:45 p.m | Georges Bank haddock, Discussion/Questions | Liz Brooks, Review Panel.
3:45 p.m.-4 p.m | Break
4 p.m.-4:15 p.m | Discussion/Summary | Review Panel.
4:15 p.m.-4:30 p.m | Public Comment | Public.
4:30 p.m | Adjourn

Tuesday, September 20, 2022

Time | Activity | Lead
9 a.m.-9:05 a.m | Brief Overview and Logistics | Michele Traver/Richard Merrick (Chair).
9:05 a.m.-10:30 a.m | White hake, Discussion/Questions | Kathy Sosebee, Review Panel.
10:30 a.m.-10:45 a.m | Break
10:45 a.m.-12 p.m | White hake cont., Discussion/Questions | Kathy Sosebee, Review Panel.
12 p.m.-12:15 p.m | Discussion/Review/Summary | Review Panel.
12:15 p.m.-12:30 p.m | Public Comment | Public.
12:30 p.m.-1:30 p.m | Lunch
1:30 p.m.-3:30 p.m | Monkfish (north and south), Discussion/Questions | Jon Deroba, Review Panel.
3:30 p.m.-3:45 p.m | Break
3:45 p.m.-4:45 p.m | Southern New England/mid-Atlantic yellowtail flounder, Discussion/Questions | Chris Legault, Review Panel.
4:45 p.m.-5 p.m | Discussion/Summary | Review Panel.
5 p.m.-5:15 p.m | Public Comment | Public.
5:15 p.m | Adjourn

Wednesday, September 21, 2022

Time | Activity | Lead
9 a.m.-9:05 a.m | Brief Overview and Logistics | Michele Traver/Richard Merrick (Chair).
9:05 a.m.-10:30 a.m | Gulf of Maine haddock, Discussion/Questions | Charles Perretti, Review Panel.
10:30 a.m.-10:45 a.m | Break
10:45 a.m.-12 p.m | Gulf of Maine haddock cont., Discussion/Questions | Charles Perretti, Review Panel.
12 p.m.-12:15 p.m | Discussion/Summary | Review Panel.
12:15 p.m.-12:30 p.m | Public Comment | Public.
12:30 p.m.-1:30 p.m | Lunch
1:30 p.m.-3:30 p.m | Pollock, Discussion/Questions | Brian Linton, Review Panel.
3:30 p.m.-3:45 p.m | Break
3:45 p.m.-4:45 p.m | Pollock cont., Discussion/Questions | Brian Linton, Review Panel.
4:45 p.m.-5 p.m | Discussion/Summary | Review Panel.
5 p.m.-5:15 p.m | Public Comment | Public.
5:15 p.m | Adjourn

Thursday, September 22, 2022

Time | Activity | Lead
9:30 a.m.-9:35 a.m | Brief Overview and Logistics | Michele Traver/Richard Merrick (Chair).
9:35 a.m.-11 a.m | American plaice, Discussion/Questions | Larry Alade, Review Panel.
11 a.m.-11:15 a.m | Discussion/Summary | Review Panel.
11:15 a.m.-11:30 a.m | Public Comment | Public.
11:30 a.m.-12 p.m | Key Points/Follow ups | Review Panel.
12 p.m.-1 p.m | Break
1 p.m.-5 p.m | Report Writing | Review Panel.
5:15 p.m | Adjourn

The meeting is open to the public; however, during the `Report Writing' session on Thursday, September 22nd, the public should not engage in discussion with the Peer Review Panel.

Special Accommodations

This meeting is physically accessible to people with disabilities. Special requests should be directed to Michele Traver, via email.

Dated: September 6, 2022.
Jennifer M. Wallace,
Acting Director, Office of Sustainable Fisheries, National Marine Fisheries Service.

[FR Doc. 2022-19480 Filed 9-8-22; 8:45 am]

BILLING CODE 3510-22-P